DEPARTMENT OF HEALTH AND HUMAN SERVICES

Administration for Children and Families

Compassion Capital Fund Demonstration Program

Federal Agency Name: Administration for Children and Families, Office of Community Services.

Funding Opportunity Title: Compassion Capital Fund Demonstration Program.

Announcement Type: Competitive Grant—Initial.

Funding Opportunity Number: HHS-2004-EJ-0002.

CFDA Number: 93.647.

DATES: May 18, 2004.

I. Funding Opportunity Description

The Administration for Children and Families (ACF), Office of Community Services (OCS) announces that competing applications will be accepted for new grants pursuant to the U.S. Department of Health and Human Services (HHS) Secretary's Compassion Capital Fund (CCF) authorized under section 1110 of the Social Security Act governing Social Services Research and Demonstration activities and the Departments of Labor, Health and Human Services, and Education, and Related Agencies Appropriations Act, 2004, Pub. L. 107-116, Title II. Pursuant to this announcement, OCS will award funds to experienced intermediary organizations to deliver training and technical assistance to small faith-based and community organizations. Intermediaries will assist these organizations to increase their effectiveness, enhance their ability to provide social services, expand their organizations, diversify their funding sources, and create collaborations to better serve those most in need. In addition, recipients of awards under this announcement must issue sub-awards to a number of qualified faith-based and community organizations for a variety of capacity-building purposes.

A. Background

Faith-based and community organizations have a long history of providing an array of important services to people in need in the United States. These organizations possess unique strengths that the government cannot duplicate. As a result, they are well positioned to assist individuals and families with the most pressing needs, such as the homeless, prisoners reentering the community, children of prisoners, at-risk youth, addicts, elders in need, and families in transition from welfare to work. In addition, faith-based and community organizations provide marriage education and preparation services to help couples who choose marriage for themselves develop the skills and knowledge to form and sustain healthy marriages.

In recognition of this history and ability, President Bush believes it is in the public's interest to broaden Federal efforts to work with faith-based and community organizations and has made improving funding opportunities for such organizations a priority. CCF is a key part of the effort to enhance and expand the participation of faith-based and community groups serving those in need. Intermediary organizations awarded funds under this announcement will serve as partners to both the Federal government and to the faith-based and community organizations that they assist. The intermediaries will represent a diverse set of affiliations, and will assist community-level organizations that have a range of service goals, target populations, affiliations, and beliefs.

B. Program Purpose and Objectives

The goal of CCF is to assist faith-based and community organizations to increase their effectiveness, enhance their ability to provide social services, expand their organizations, diversify their funding sources, and create collaborations to better serve those most in need. This will be accomplished through the funding of experienced intermediary organizations in well-defined geographic locations with a proven track record of providing technical assistance to smaller faith-based and community organizations in their communities. These intermediary organizations will serve as a bridge between the Federal government and the faith-based and community organizations that this program is designed to assist.

Intermediary organizations will provide two services within their communities:

1. Technical assistance to faith-based and community organizations; and

2. Financial support—through sub-awards—to some subset of the faith-based and community organizations in their communities.

Technical Assistance

ACF seeks intermediary organizations with demonstrated expertise and a proven track record in working with and providing technical assistance to faith-based and community organizations in a variety of areas. Technical assistance activities funded under CCF are to be conducted at no cost to interested faith-based and community organizations. Applicants must have demonstrated experience in the delivery of capacity-building assistance to smaller organizations in several of the following areas: strategic planning, financial management, board development, fund-development, and outcome measurement. Additionally, there is a range of other needs that may appropriately be provided by the intermediary organizations awarded funds under this announcement. The following list is meant to be illustrative, not exhaustive.

• Legal assistance in various areas such as the process of incorporation or obtaining tax-exempt status;

• Needs assessments to identify internal areas needing improvement or areas in which to develop or expand community services to address service gaps;

• Development of internal operating controls and procedures related to all aspects of business management;

• Facilitation of networks, service coordination, and resource sharing among organizations;

• Incorporation of “best practices” in priority social service areas;

• Expanding outreach and client screening, intake or tracking methods;

• Volunteer management;

• Human resources.

In addition, intermediaries must be established organizations with well-developed connections to and working relationships with faith-based and community organizations in well-defined geographic locations. Typically, these intermediary organizations will be located in the same communities as the faith-based and community organizations that they serve.

Technical assistance should be provided on a long-term, on-going basis to smaller organizations, rather than through single or short-term contacts (such as a nationwide series of seminars or conferences).

Sub-Awards

The program goals will be further accomplished through the issuance of sub-awards by the funded intermediary organizations to a diverse set of small faith-based and community organizations that seek to increase program and organizational effectiveness for a 12-month period. The total amount of sub-awards proposed in an intermediary's application must represent at least one-quarter or 25 percent of the total Federal funds. The issuance of sub-awards must be consistent with the following principles:

• Sub-award recipients must be chosen through a fair and open competitive process.

• Sub award recipients may not be pre-selected.

• The awarding process must be a fair and open competition and include outreach to both faith-based and community organizations.

• Intermediary organizations must provide on-going technical assistance and capacity-building support to the organizations to which they issue sub-awards.

• The criteria for selection of sub-awardees must not include consideration of the religious nature of a group or the religious nature of the program it offers.

• Priority for sub-awards should be given to organizations that historically have not received grants from the Federal government.

• Priority for sub-awards should be given to organizations implementing program(s) in several priority areas including: the homeless, elders in need, at-risk youth, families in transition from welfare to work, those in need of intensive rehabilitation such as addicts or prisoners, and organizations that provide marriage education and preparation services to help couples who choose marriage for themselves develop the skills and knowledge to form and sustain healthy marriages.

• Intermediaries must not require sub-award applicants to provide matching funds or give them a preference in the selection process if they offer matching funds in their applications.

• Intermediaries must not require sub-award applicants to have 501(c)(3) status or to identify a sponsoring organization with 501(c)(3) status.

• Organizations that partner with an intermediary to deliver technical assistance or provide cost-sharing funds for the proposed project are not to be eligible for sub-awards, unless approved by the Administration for Children and Families.

• Sub-awards must be in amounts manageable for a small organization.

• The central focus of an intermediary's proposed sub-award concept must be capacity-building activities that further the sustainability of sub-awardees' social service efforts. Sub-awards should be used to assist organizations in differing stages of development. For example, funds may be provided to fledgling organizations to improve their basic functions, such as attaining 501(c)(3) status or developing sound financial systems. Sub-awards may also be provided to promising organizations to expand the reach of existing programs. Such funding would allow a promising organization to move to a higher level of service, where it is able to assist more people on a sustainable basis. Uses for such funding might include: employing a key additional staff person, moving to a larger or better-equipped facility, upgrading case management or informational technology capabilities, or supporting a new social service.

• Sub-awards must not be used to provide direct services, but rather improve the sub-awardee's efficiency and capacity. For example, an organization that distributes food to the poor should not receive a sub-award to purchase additional food. Nor, for example, should an organization that provides substance abuse treatment services use additional funds to provide the same services to more people. Although using the sub-awards for direct service would enable organizations to assist additional individuals, they would not further the goals of improving an organization's sustainability, efficiency, or capacity. Rather, the organizations would simply use additional funds in the same way they used existing funds, without fundamentally changing or improving their services.

Plan For Providing Technical Assistance and Sub-Awards

As part of its application to ACF, each applicant must submit a basic outline of its sub-award approach, describing the kinds of organizations in its community that would benefit and examples of activities that it expects these groups will undertake with sub-award funding. Intermediary organizations that receive CCF awards will be required to develop, with guidance from and in consultation with ACF, a detailed plan for this process within 60 days of receipt of an award under this announcement. ACF must review and approve this plan prior to the issuance of any sub-awards using Federal funds awarded under this announcement. Intermediary organizations must report on the use of funds for sub-awards as they do for other types of expenditures of Federal funds received as a result of an award under this announcement and as specified in the Cooperative Agreement. Intermediary organizations will also be required to develop, with guidance from and in consultation with ACF, a plan within six months of receipt of an award for working with sub-awardees to develop outcome measures and to evaluate the activities supported by the sub-awards.

Applicants must coherently describe their plan both for providing technical assistance and sub-awards. In providing technical assistance and in making sub-awards, these plans must provide for the establishment of ongoing supportive relationships with those faith-based and community organizations served, rather than single or short-term interactions. Technical assistance conferences and workshops may be parts of an applicant's plan, but they must not be its sole focus. The plan must also describe how applicants will develop and build upon existing long-term supportive relationships with the faith-based and community organizations within their communities.

Furthermore, approved applicants must be willing to work closely with ACF, and any entities funded by ACF, to coordinate, assist, or evaluate the activities of the intermediary organizations providing technical assistance and issuing sub-awards. Proposed budgets should include the cost of travel-related expenses for two key personnel with responsibility for the CCF award to attend a two-day orientation workshop with Federal officials in Washington, DC. This meeting will focus on orientation to Federal objectives for the project, information about related activities supported by HHS and other Federal agencies, Federal grants management requirements, and coordination between and among the approved intermediary organizations and other entities funded by ACF to be involved in the CCF initiative.

ACF expects to work closely with organizations that receive funding to ensure that CCF monies are used appropriately and in the most effective manner possible. It has also entered into a contract with an organization that serves as the National Resource Center (herein also referred to as the National Center) for these intermediaries. Under this contract, the National Center provides CCF intermediaries with support and technical assistance. Funded organizations must expect to interact with both ACF and the National Center on an on-going basis and modify their technical assistance and sub-award plans in coordination with ACF to address barriers to faith-based participation in Federally-sponsored programs.

II. Award Information

Funding Instrument Type: Cooperative Agreement.

Anticipated Total Priority Area Funding: $7.0 million.

Anticipated Number of Awards: 12 per budget period.

Ceiling on Amount of Individual Awards: $1,000,000 per budget period.

Floor on Individual Award Amounts: none.

Average Projected Award Amount: $400,000-$800,000 per budget period.

Project Periods for Awards: This announcement is inviting applications for project periods up to three years. Awards, however, will be made on a competitive basis, for a one-year budget period. Applications for continuation grants funded under these awards beyond the one-year budget period but within the three-year project period will be entertained in subsequent years on a noncompetitive basis, subject to availability of funds, satisfactory progress of the grantee and a determination that continued funding would be in the best interest of the Government.

III. Eligibility Information

1. Eligible Applicants

County governments, City or township governments, Special district governments, State controlled institutions of higher education, Native American tribal governments (Federally recognized), Non-profit organizations having a 501(c) (3) status with the Internal Revenue Code, other than institutions of higher education, Non-profit organizations that do not have 501 (c) (3) status with the Internal Revenue Code, other than institutions of higher education, Private institutions of higher education, For-profit organizations other than small businesses, Small businesses, and faith-based organizations.

Additional Information on Eligibility: Faith-based and community organizations are eligible to apply for these grants. ACF invites applications from a wide variety of organizations or entities with demonstrated knowledge and experience in the provision of the types of technical assistance described herein to a broad spectrum of faith-based and community organizations. We particularly encourage organizations and entities with demonstrated experience working with organizations representing a range of beliefs and practices or which can demonstrate the capacity to work with such diverse organizations.

Further, ACF encourages applications from applicants that propose to work with and have experience working with faith-based and community organizations that historically have not been well served or supported by governmental funds. If organizations propose to collaborate to provide Compassion Capital Fund intermediary services, they should have well-developed working relationships and a history of working together prior to announcement of this funding opportunity.

Any non-profit organization submitting an application must include proof of its non-profit status in its application at the time of submission. The non-profit agency can accomplish this by providing any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement singed by the parent organization that the applicant organization is a local non-profit affiliate.

Fiscal year (FY) 2002 ACF Compassion Capital Fund grantees who received (FY) 2003 continuation funds and (FY) 2003 ACF Compassion Capital Fund grantees are ineligible to apply. Additionally, Federal funds received as a result of this announcement cannot be paid as profit to grantees or sub-grantees, i.e., any amount in excess of allowable direct and indirect costs of the recipient (45 CFR 74.81).

Applicants are cautioned that the ceiling for individual awards is $1,000,000.

Applications exceeding the $1,000,000 threshold will be considered non-responsive and will not be eligible for funding under this announcement.

Applications that fail to include the required amount of cost-sharing will be considered non-responsive and will not be eligible for funding under this announcement.

2. Cost Sharing or Matching

Grantees must provide at least 20 percent of the total approved cost of the project. The total approved cost of the project is the sum of the ACF share and the non-Federal share. The non-Federal share may be met by cash or in-kind contributions, although applicants are encouraged to meet their match requirements through cash contributions. For example, in order to meet the match requirements, a project with a total approved cost of $625,000, requesting $500,000 in ACF funds, must provide a non-Federal share of at least $125,000 (20% of total approved project cost of $625,000). Grantees will be held accountable for commitments of non-Federal resources even if over the amount of the required match. Failure to provide the amount will result in disallowance of Federal funds.

The basis for an applicant's meeting its cost sharing commitments must be firm, and cannot be speculative. Applications without a firm cost share commitment will not be evaluated. Cash commitments to meet the cost sharing requirement are preferable to in-kind commitments.

Applications that fail to include the required amount of cost-sharing will be considered non-responsive and will not be eligible for funding under this announcement.

3. Other (If Applicable)

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Applicants are cautioned that the ceiling for individual awards is $1,000,000. Applications exceeding the $1,000,000 threshold will be considered non-responsive and will not be eligible for funding under this announcement.

Applications that fail to include the required amount of cost-sharing will be considered non-responsive and will not be eligible for funding under this announcement.

Applications that do not follow the required format described in section IV.2 Application Requirements will be considered non-responsive and will not be eligible for funding under this announcement.

IV. Application and Submission Information

1. Address To Request Application Package

U.S. Department of Health and Human Services (HHS),

Administration for Children and Families Office of Community Services Operations Center, Compassion Capital Fund Demonstration Program, 1815 North Fort Meyer Drive, Suite 300, Arlington, VA 22209, Attention: Eduardo Hernandez, Telephone: 1-800-281-9519,

E-mail: OCS@LCGNET.COM.

2. Content and Form of Application Submission

An original and two copies of the complete application are required. The original and 2 copies must include all required forms, certifications, assurances, and appendices, be signed by an authorized representative, have original signatures, and be submitted unbound. Applicants have the option of omitting from the application copies (not the original) specific salary rates or amounts for individuals specified in the application budget.

You may submit your application to us either in electronic or paper format. To submit an application electronically, please use the http://www.Grants.gov apply site. If you use Grants.Gov you will be able to download a copy of the application package, complete it off-line, and then upload and submit the application via the Grants.gov site. You may not e-mail an electronic copy of a grant application to us.

Please note the following if you plan to submit your application electronically via Grants. Gov.

• Electronic submission is voluntary.

• When you enter the Grants.Gov site, you will find information about submitting an application electronically through the site, as well as the hours of operation. We strongly recommend that you do not wait until the application deadline date to begin the application process through Grants.Gov.

• To use Grants.gov, you, as the applicant, must have a DUNS Number and register in the Central Contractor Registry (CCR). You should allow a minimum of five days to complete the CCR registration.

• You will not receive additional point value because you submit a grant application in paper format.

• You may submit all documents electronically, including all information typically included on the SF424 and all necessary assurances and certifications.

• Your application must comply with any page limitation requirements described in this program announcement.

• After you electronically submit your application, you will receive an automatic acknowledgement from Grants.Gov that contains a Grants.Gov tracking number. The Administration for Children and Families will retrieve your application from Grants.Gov.

• We may request that you provide original signatures on forms at a later date.

• You may access the electronic application for this program on http://www.Grants.gov. You must search for the downloadable application package by the CFDA number.

Application Requirements

The application must be double-spaced and single-sided on 8½ × 11 plain white paper, with 1” margins on all sides. The application must use Times New Roman 12 point font or Arial 12 point font. All pages of the application (including appendices, resumes, charts, references/footnotes, tables, maps and exhibits) must be sequentially numbered. Applications that do not follow the aforementioned stated criteria will be considered non-responsive and will not be eligible for funding under this announcement.

Each application may include only one proposed project.

The Project Narrative including the Table of Contents must not exceed 25 pages. Pages submitted beyond the first 25 in the application project narrative section will be removed prior to panel review. The Narrative Budget Justification, Standard Forms for Assurances, Certifications, Disclosures and appendices and the cost-share letters are not included in this limitation, yet applicants are urged to be concise.

There is a 5-page limit to any additional supporting documentation, including letters of support. Applicants are requested not to send pamphlets, brochures, or other printed material along with their applications as these pose copying difficulties. These materials, if submitted, will not be included in the review process. In addition, applicants should not submit any additional letters of endorsement beyond any that may be required.

If the applicant is submitting letters documenting cost-share commitments from collaborating partners, state, or local governments or philanthropic organizations, the cost-share letters must clearly state that these organizations are committed to providing the funds to the organizations should the applicant be awarded a grant. Commitments in excess of the 20 percent threshold will not receive extra points, though applicants should note that applicants will be held accountable for all cost-share included. Failure to provide the full amount committed in the grant award may result in disallowance of Federal match.

Applicants must demonstrate proof of non-profit status and this proof must be included in their applications. Applicants must include any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement singed by the parent organization that the applicant organization is a local non-profit affiliate.

Forms and Certifications: The project description should include all the information requirements described in the specific evaluation criteria outlined in the program announcement under Part V. In addition to the project description, the applicant needs to complete all the standard forms required for making applications for awards under this announcement. Applicants requesting financial assistance for non-construction projects must file the Standard Form 424B, “Assurances: Non-Construction Programs.” Applicants must sign and return the Standard Form 424B with their applications. Applicants must provide a certification regarding lobbying when applying for an award in excess of $100,000. Applicants must sign and return the certification with their applications. Applicants must disclose lobbying activities on the Standard Form LLL when applying for an award in excess of $100,000. Applicants who have used non-Federal funds for lobbying activities in connection with receiving assistance under this announcement shall complete a disclosure form, if applicable, with their applications. The forms (Forms 424, 424A-B; and Certifications may be found at: http://www.acf.hhs.gov/programs/ofs/forms.htm under new announcements. Fill out Standard Forms 424 and 424A and the associated certifications and assurances based on the instructions on the forms.

Private, non-profit organizations are encouraged to submit with their applications the survey located under “Grant Related Documents and Forms” titled “Survey for Private, Non-Profit Grant Applicants.” The forms are located on the web at http://www.acf.hhs.gov/programs/ofs/forms.htm.

3. Submission Dates and Times

The closing time and date for receipt of applications is 4:30 p.m. (Eastern Time Zone) on May 18, 2004. Mailed or hand carried applications received after 4:30 p.m. on the closing date will be classified as late.

Deadline: Mailed applications shall be considered as meeting an announced deadline if they are received on or before the deadline time and date at the following address:

U.S. Department of Health and Human Services (HHS), Administration for Children and Families Office of Community Services Operations Center, Compassion Capital Fund Demonstration Program, 1815 North Fort Meyer Drive, Suite 300, Arlington, VA 22209, Attention: Barbara Ziegler Johnson, Telephone: 1-800-281-9519.

Applicants are responsible for mailing applications well in advance, when using all mail services, to ensure that the applications are received on or before the deadline time and date.

Applications hand carried by applicants, applicant couriers, other representatives of the applicant, or by overnight/express mail couriers shall be considered as meeting an announced deadline if they are received on or before the deadline date, between the hours of 8:00 a.m. and 4:30 p.m., EST, at the following address:

U.S. Department of Health and Human Services (HHS), Administration for Children and Families Office of Community Services Operations Center, Compassion Capital Fund Demonstration Program, 1815 North Fort Meyer Drive, Suite 300, Arlington, VA 22209, Attention: Barbara Ziegler Johnson, Telephone: 1-800-281-9519.

Late applications: Applications which do not meet the criteria above are considered late applications. ACF shall notify each late applicant that its application will not be considered in the current competition.

Extension of deadlines: ACF may extend application deadlines when circumstances such as acts of God (floods, hurricanes, etc.) occur, or when there are widespread disruptions of mail service. Determinations to extend or waive deadline requirements rest with the Chief Grants Management Officer.

Required Forms:

What to submit | Required content | Required form or format | When to submit
Narrative | Described in Section v of this Announcement | Format described in Section V | By application due date.
SF 424, SF 424A, and SF 424B | Per required form | May be found at http://www.acf.hhs.gov/programs/ofs/forms.htm | By application due date.
Certification regarding Lobbying and associated Disclosure of Lobbying Activities (SF LLL) | Per required form | May be found at http://www.acf.hhs.gov/programs/ofs/forms.htm | By application due date.
Environmental Tobacco Smoke Certification | Per required form | May be found at http://www.acf.hhs.gov/programs/ofs/forms.htm | By application due date.

Additional Forms: Private-non-profit organizations are encouraged to submit with their applications the additional survey located under “Grant Related Documents and Forms” titled “Survey for Private, Non-Profit Grant Applicants”.

What to submit | Required content | Required form or format | When to submit
Survey for Private, Non-Profit Grant Applicants | Per required form | May be found on http://www.acf.hhs.gov/programs/ofs/form.htm | By application due date.

4. Intergovernmental Review

State Single Point of Contact (SPOC)

This program is covered under Executive Order 12372, “Intergovernmental Review of Federal Programs,” and 45 CFR part 100, “Intergovernmental Review of Department of Health and Human Services Programs and Activities.” Under the Order, States may design their own processes for reviewing and commenting on proposed Federal assistance under covered programs. As of October 1, 2003, the following jurisdictions have elected not to participate in the Executive Order process. Applicants from these jurisdictions or for projects administered by federally-recognized Indian Tribes need take no action in regard to E.O. 12372:

All States and Territories except Alabama, Alaska, Arizona, Colorado, Connecticut, Hawaii, Idaho, Indiana, Kansas, Louisiana, Minnesota, Montana, Nebraska, New Jersey, Ohio, Oklahoma, Oregon, Pennsylvania, South Dakota, Tennessee, Vermont, and Virginia. Applicants from these jurisdictions need not take action.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants, 370 L'Enfant Promenade, SW., Washington, DC 20447.

A list of the Single Points of Contact for each State and Territory is included with the application materials for this announcement.

5. Funding Restrictions

Sub-Contracting or Delegating Projects

OCS will not fund any project where the role of the applicant is primarily to serve as a conduit for funds to organizations other than the applicant. The applicant must have a substantive role in the implementation of the project for which funding is requested. This prohibition does not bar the making of sub-grants or sub-contracting for specific services or activities needed to conduct the project.

Number of Projects in Application

Each application may include only one proposed project.

Applicants are cautioned that the ceiling for individual awards is $1,000,000. Applications exceeding the $1,000,000 threshold will be considered non-responsive and will not be eligible for funding under this announcement.

Applications that fail to include the required amount of cost-sharing will be considered non-responsive and will not be eligible for funding under this announcement.

Fiscal year (FY) 2002 ACF Compassion Capital Fund grantees who received FY 2003 continuation funds and (FY) 2003 ACF Compassion Capital Fund grantees are ineligible to apply and will not be funded under this announcement. Additionally, Federal funds received as a result of this announcement cannot be paid as profit to grantees or sub-grantees, i.e., any amount in excess of allowable direct and indirect costs of the recipient (45 CFR 74.81).

In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in the later competition.

6. Other Submission Requirements

Submission by Mail: An Applicant must provide an original application with all attachments, signed by an authorized representative and two copies. The Application must be received at the address below by 4:30 PM Eastern Standard Time on or before the closing date. Applications should be mailed to: U.S. Department of Health and Human Services (HHS), Administration for Children and Families Office of Community Services Operations Center, Compassion Capital Fund Demonstration Program, 1815 North Fort Meyer Drive, Suite 300, Arlington, VA 22209, Attention: Barbara Ziegler Johnson, Telephone: 1-800-281-9519.

Hand Delivery: An Applicant must provide an original application with all attachments signed by an authorized representative and two copies. The application must be received at the address below by 4:30 p.m. Eastern Standard Time on or before the closing date. Applications that are hand delivered will be accepted between the hours of 8 a.m. to 4:30 p.m., Monday through Friday. Applications may be delivered to: U.S. Department of Health and Human Services (HHS), Administration for Children and Families Office of Community Services Operations Center 1815 North Fort Meyer Drive, Suite 300 Arlington, VA 22209, Attention: Barbara Ziegler Johnson, Telephone: 1-800-281-9519.

Electronic Submission: Please see section IV. 2 Content and Form of Application Submission, for guidelines and requirements when submitting applications electronically.

V. Application Review Information

1. Criteria

General Instructions for the Uniform Project Description

The following are instructions and guidelines on how to prepare the “project summary/abstract” and “Full Project Description” sections of the application. Under the evaluation criteria section, note that each criterion is preceded by the generic evaluation requirement under the ACF Uniform Project Description (UPD). Public Reporting for this collection of information is estimated to average 25 hours per response, including the time for reviewing instructions, gathering and maintaining the data needed, and reviewing the collection information.

The project description is approved under OMB Control Number 0970-0139 which expires 3/31/2004.

An agency may nor conduct or sponsor, and a person is not required to respond to, a collection of information unless it displays a currently valid OMB control number.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement. Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Objectives and Need for Assistance

Clearly identify the physical, economic, social, financial, institutional, and/or other problem(s) requiring a solution. The need for assistance must be demonstrated and the principal and subordinate objectives of the project must be clearly stated. Supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

Results or Benefits Expected

Identify the results and benefits to be derived. For example, describe how the intermediary's assistance to faith-based and community organizations will increase their effectiveness, enhance their ability to provide social services, diversify their funding sources, and create collaborations to better serve those most in need.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Evaluation Criterion I: Approach (Maximum: 35 Points)

Factors: (1) Technical Assistance Strategy (15 points). Applications will be evaluated based on the extent to which the technical assistance strategy uses applicable methods and is logical, reasonable, well-conceived, and linked to the results and benefits expected. Applications will also be evaluated on the following factors: The extent to which the approach to reach out to faith-based and community organizations in the targeted geographic area is extensive; the extent to which the range and delivery approach of technical assistance to be provided serves to increase organizations' effectiveness, enhance their ability to provide social services, expand their organizations, diversify their funding sources, and create collaborations to better serve those most in need; and the extent to which the proposed schedule for accomplishing the activities planned is logical and attainable. Furthermore, applications will be evaluated on the extent to which the principles and conditions outlined in this Announcement regarding technical assistance are evident in the applicant's approach.

(2) Sub-award Strategy (15 points). Applications will be evaluated on the extent to which the sub-award strategy is logical, reasonable, and well-conceived. Applications will also be evaluated on the extent to which the plan is comprehensive, describes the process that the applicant will employ to identify and select organizations to receive sub-awards, and estimates the types and number of organizations expected to receive funding and the purposes to which sub-awards may be used. Furthermore, applications will also be evaluated on the extent to which the principles and conditions outlined in the Announcement regarding sub-awards are evident in the applicant's approach.

(3) Geographic Location (5 Points). Applications will be evaluated based on the extent to which they include a description of the precise region to be served, the rationale for proposing the region, and a detailed description of the population served by faith-based and community organizations in the proposed area, including statistics and facts that convey an understanding of the unique needs of the population in the area.

Evaluation Criterion II: Objectives and Need for Assistance (Maximum: 10 points)

Factors: (1) Needs of faith-based and community organizations to be served (5 points). Applications will be evaluated on the extent to which the objectives of the proposed project are clearly stated and shown to address the needs of the faith-based and community organizations to be served through training, technical assistance, and sub-awards.

(2) Needs of communities served (5 points). Applications will be evaluated on the extent to which the faith-based and community organizations that will receive training, technical assistance, and sub-awards serve vital needs in their communities.

Evaluation Criterion III: Organizational Profiles (Maximum: 25 points)

Factors: (1) Staff and Position Data (10 Points). Applications will be evaluated on the extent to which they include a listing of key positions required to carry out the project, the individuals proposed to fill the positions, and a detailed description of the kind of work they will perform. Applications will also be evaluated on the extent to which evidence is provided demonstrating the staff's skill, knowledge, and experience in carrying out their assigned activities such as evidence that demonstrates not only staff's good technical skills, but also a clear record of working with faith-based and community organizations. Applications will also be evaluated on the extent to which the above information is provided with regard to consultants or staff from other organizations proposed to work on the project.

(2) Past Experience (15 Points). Applications will be evaluated on the extent to which the applicant demonstrates experience and a proven track record in providing technical assistance to faith-based and community organizations, including concrete examples of technical assistance the applicant has provided to these organizations, citing dates, names of groups assisted, and the kind of technical assistance provided.

Evaluation Criterion IV: Results or Benefits Expected (Maximum: 20 points)

Applications will be evaluated on the extent to which the specific goals of the project and the results and benefits proposed by the applicant are reasonable and likely, quantified, clearly linked to and supported by the proposed capacity-building technical assistance approach, and supportive of the stated goals under this announcement.

Evaluation Criterion V: Budget and Budget Justification (Maximum: 10 points)

Applications will be evaluated based on the extent to which they include a budget that is clear, easy to understand, and provides a detailed justification for the amount requested. Applicants should refer to the budget information presented in the Standard Forms 424 and 424A and to the budget justification instructions in section V. General Instructions for the Uniform Project Description. Given that non-Federal reviewers will be used in the review of applications, applicants may omit from the submitted copies of the application, (not from the original), the specific salary rates or amounts for individuals in the application budget and instead provide only summary information.

Applications will also be evaluated to the extent that they include the last two year's recent operating budgets of the applicant. Details of the budget are not required. The application will be evaluated based on the extent to which the amount requested under the funding announcement is proportional to the recent size of the applicant's operating budget. For example, it would be inappropriate for an organization that operated with $100,000 in 2002 and $110,000 in 2003 to request $1 million in Federal funds.

2. Review and Selection Process

Applications received by the due date will be reviewed and scored competitively. Experts in the field, generally persons from outside the Federal government, will use the evaluation criteria listed in Part V of this announcement to review and score the applications. The results of this review will be a primary factor in making funding decisions. ACF may also solicit comments from Regional Office staff and other Federal agencies. ACF may consider a variety of factors in addition to the review criteria identified above, including geographic diversity/coverage and types of applicant organizations, in order to ensure that the interests of the Federal Government are met in making the final selections. Furthermore, ACF may limit the number of awards made to the same or affiliated organizations although they would serve different geographic areas. In this way, ACF may increase opportunities for learning about different ways to provide technical assistance and support to faith-based and community organizations. Please note that applicants that do not comply with the requirements in the section titled “Eligible Applicants” will not be included in the review process.

Legal Rules That Apply to Faith-Based Organizations That Receive Government Funds

CCF monies shall not be used to support inherently religious practices such as religious instruction, worship, or proselytization. Grant or sub-award recipients, therefore, may not and will not be selected based on religious criteria. Neutral, non-religious criteria that neither favor nor disfavor religion must be employed in selection of a grantee and sub-award recipients under this announcement.

Approved but Unfunded Applications: In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in the later competition.

VI. Award Administration Information

1. Award Notices

The successful applicants will be notified through the issuance of a Financial Assistance Award document which sets forth the amount of funds granted, the terms and conditions of the grant, the effective date of the grant, the budget period for which initial support will be given, the non-Federal share to be provided, and the total project period for which support is contemplated. The Financial Assistance Award will be signed by the Grants Officer and transmitted via postal mail.

Organizations whose applications will not be funded will be notified in writing by the Office of Community Services.

2. Administrative and National Policy Requirements

45 CFR part 74 and 45 CFR part 92.

Conditions for the Cooperative Agreement

Organizations selected to receive an award will be responsible for implementing activities described in the project description of the approved application; developing and implementing work plans that will ensure that the services and activities included in the approved application address the needs of faith-based and community organizations in an efficient, effective, and timely manner; submitting for Federal review and approval, within 60 days of receipt of the Financial Assistance Award and prior to the issuance of any such sub-awards, plans and procedures for the issuance of sub-awards; submitting regular semi-annual financial status and progress reports that describe project activities; working cooperatively and collaboratively with ACF officials, other Federal agency officials conducting related activities, the other intermediary organizations approved under the CCF program, and other entities or organizations contracted by ACF to assist in carrying out the purposes of the Compassion Capital Fund program; ensuring that key staff attend and participate in ACF sponsored workshops and meetings, including the initial orientation meeting; and ensuring that Compassion Capital Funds are not used to support religious practices such as religious instruction, worship, or prayer.

3. Reporting

Programmatic Reports: Semi-annually.

Financial Reports: Semi-annually.

Special Reporting Requirements: None.

All grantees are required to submit semi-annual program reports; grantees are also required to submit semi-annual expenditure reports using the required financial standard form (SF-269) which is located on the Internet at: http://forms.psc.gov/forms/sf/SF-269.pdf. A suggested format for the program report will be sent to all grantees after the awards are made.

VII. Agency Contacts

Program Office Contact: Kelly Cowles, Office of Community Services, 370 L'Enfant Promenade, SW., Suite 500 West, Aerospace Building, Washington, DC 20447-0002, E-mail: OCS@LCGNET.COM, Telephone: (800) 281-9519.

Grants Management Office Contact: Barbara Ziegler, Office of Grants Management, Division of Discretionary Grants, 370 L'Enfant Promenade, SW., 4th Floor West, Aerospace Building, Washington, DC 20447-0002, E-mail: OCS@LCGNET.COM, Telephone: (800) 281-9519.

General: Office of Community Services Operations Center, Compassion Capital Fund Demonstration Program, 1815 North Fort Meyer Drive, Suite 300, Arlington, VA 22209, Attention: Eduardo Hernandez, Telephone: 1-800-281-9519, E-mail: OCS@LCGNET.COM.

VIII. Other Information

Additional information about this program and its purpose can be located on the following Web sites: http://www.acf.hhs.gov/programs/ccf/, http://www.acf.hhs.gov/programs/ocs/, http://www.acf.hhs.gov/programs/ccf.

Dated: March 15, 2004.
Clarence Carter,
Director, Office of Community Services.

[FR Doc. 04-6204 Filed 3-18-04; 8:45 am]

BILLING CODE 4184-01-P